DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Certification Requirements for Distributors of NOAA Electronic Navigational Charts.

OMB Control Number: 0648-0508.

Form Number(s): None.

Type of Request: Regular (extension of a currently approved information collection).

Number of Respondents: 8.

Average Hours per Response: Distribution report, 1 hour; error reporting, 1.5 hours.

Burden Hours: 328.

Needs and Uses: This request is for extension of a currently approved information collection.

NOS Office of Coast Survey manages the Certification Requirements for Distributors of NOAA Electronic Navigational Charts (NOAA ENCs®). The certification allows entities to download, redistribute, repackage, or in some cases reformat, official NOAA ENCs and retain the NOAA ENC's official status. The regulations for implementing the Certification are at 15 CFR part 995. The recordkeeping and reporting requirements of 15 CFR part 995 form the basis for this collection of information. This information allows the Office of Coast Survey to administer the regulation, and to better understand the marketplace resulting in products to that meet the needs of the customer in a timely and efficient manner.

Affected Public: Business or other for-profit organizations; not-for-profit institutions.

Frequency: Semiannually and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: June 15, 2015.
Sarah Brabson,
NOAA PRA Clearance Officer.

[FR Doc. 2015-14981 Filed 6-17-15; 8:45 am]

BILLING CODE 3520-JE-P